DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Lee (FEMA Docket No.: B-2136). | City of Auburn, (20-04-4301P). | The Honorable Ron Anders, Jr., Mayor, City of Auburn, 144 Tichenor Avenue, Suite 1, Auburn, AL 36830. | City Hall, 144 Tichenor Avenue, Auburn, AL 36830. | August 20, 2021 | 010144
Lee (FEMA Docket No.: B-2136). | City of Opelika, (20-04-2856P). | The Honorable Gary Fuller, Mayor, City of Opelika, P.O. Box 390, Opelika, AL 36803. | Public Works Department, 700 Fox Trail, Opelika, AL 36803. | August 20, 2021 | 010145
Lee (FEMA Docket No.: B-2136). | Unincorporated areas of Lee County, (20-04-4301P). | The Honorable Bill English, Chairman, Lee County Commission, P.O. Box 666, Opelika, AL 36803. | Lee County Building Inspections Department, 100 Orr Avenue, Opelika, AL 36804. | August 20, 2021 | 010250
Shelby (FEMA Docket No.: B-2136). | City of Helena, (21-04-0379P). | The Honorable J. Brian Puckett, Mayor, City of Helena, 846 Highway 52 East Helena, AL 35080. | City Hall, 816 Highway 52 East Helena, AL 35080. | August 23, 2021 | 010294
St. Clair, (FEMA Docket No.: B-2136). | City of Margaret, (20-04-4314P). | The Honorable Jeffery G. Wilson, Mayor, City of Margaret, P.O. Box 100, Margaret, AL 35953. | St. Clair County Flood Management Department,, 165 5th Avenue, Suite 100, Ashville, AL 35953. | August 20, 2021 | 010393
St. Clair, (FEMA Docket No.: B-2136). | Unincorporated areas of St. Clair County, (20-04-4314P). | The Honorable Paul Manning, Chairman, St. Clair County Commission, 165 5th Avenue, Suite 100, Ashville, AL 35953. | St. Clair County Flood Management Department,, 165 5th Avenue, Suite 100, Ashville, AL 35953. | August 20, 2021 | 010290
Colorado:
Arapahoe, (FEMA Docket No.: B-2133). | City of Centennial, (20-08-0573P). | Mr. Matt Sturgeon, Manager, City of Centennial, 13133 East Arapahoe Road, Centennial, CO 80112. | Southeast Metro Stormwater Authority, 7437 South Fairplay Street, Centennial, CO 80112. | July 30, 2021 | 080315
Arapahoe, (FEMA Docket No.: B-2133). | Unincorporated areas of Arapahoe County, (20-08-0573P). | The Honorable Nancy Jackson, Chair, Arapahoe County Board of Commissioners, 5334 South Prince Street, Littleton, CO 80120. | Arapahoe County Public Works and Development Department, 6924 South Lima Street, Centennial, CO 80112. | July 30, 2021 | 080011
Douglas, (FEMA Docket No.: B-2130). | Town of Castle Rock, (20-08-0649P). | The Honorable Jason Gray, Mayor, Town of Castle Rock, 100 North Wilcox Street, Castle Rock, CO 80104. | Stormwater Department, 175 Kellog Street, Castle Rock, CO 80109. | August 6, 2021 | 080050
Douglas, (FEMA Docket No.: B-2130). | Unincorporated areas of Douglas County, (20-08-0649P). | The Honorable Lora Thomas, Chair, Douglas County Board of Commissioners, 100 3rd Street, Castle Rock, CO 80104. | Douglas County Department of Public Works, Engineering, 100 3rd Street, Castle Rock, CO 80104. | August 6, 2021 | 080049
Douglas, (FEMA Docket No.: B-2133). | Unincorporated areas of Douglas County, (21-08-0166P). | The Honorable Lora Thomas, Chair, Douglas County Board of Commissioners, 100 3rd Street, Castle Rock, CO 80104. | Douglas County Department of Public Works Engineering, 100 3rd Street, Castle Rock, CO 80104. | July 30, 2021 | 080049
Eagle, (FEMA Docket No.: B-2141). | Town of Gypsum, (20-08-0718P). | The Honorable Steve Carver, Mayor, Town of Gypsum, P.O. Box 130, Gypsum, CO 81637. | Town Hall, 50 Lundgren Boulevard, Gypsum, CO 81637. | August 6, 2021 | 080002
Eagle, (FEMA Docket No.: B-2141). | Unincorporated areas of Eagle County, (20-08-0718P). | Mr. Jeff Shroll, Eagle County Manager, P.O. Box 850, Eagle, CO 81631. | Eagle County Engineering Department, 500 Broadway Street, Eagle, CO 81631. | August 6, 2021 | 080051
Jefferson, (FEMA Docket No.: B-2136). | City of Arvada, (20-08-0711P). | The Honorable Marc Williams, Mayor, City of Arvada, 8101 Ralston Road, Arvada, CO 80002. | Engineering Division, 8101 Ralston Road, Arvada, CO 80002. | August 13, 2021 | 085072
Connecticut: New London, (FEMA Docket No.: B-2136). | Town of Waterford, (20-01-1005P). | The Honorable Robert J. Brule, First Selectman, Town of Waterford Board of Selectmen, 15 Rope Ferry Road, Waterford, CT 06385. | Town Hall, 15 Rope Ferry Road, Waterford, CT 06385. | August 6, 2021 | 090107
Florida:
Bay, (FEMA Docket No.: B-2133). | City of Lynn Haven, (20-04-2912P). | The Honorable Dan Russell, Mayor, City of Lynn Haven, 817 Ohio Avenue, Lynn Haven, FL 32444. | Development and Planning Department, 817 Ohio Avenue, Lynn Haven, FL 32444. | August 16, 2021 | 120009
Bay, (FEMA Docket No.: B-2133). | Unincorporated areas of Bay County, (20-04-2912P). | The Honorable Robert Carroll, Chairman, Bay County Board of Commissioners, 840 West 11th Street, Panama City, FL 32401. | Bay County Planning Department, 840 West 11th Street, Panama City, FL 32401. | August 16, 2021 | 120004
Lee, (FEMA Docket No.: B-2133). | City of Bonita Springs, (21-04-1316P). | The Honorable Rick Steinmeyer, Mayor, City of Bonita Springs, 9101 Bonita Beach Road, Bonita Springs, FL 34135. | Community Development Department, 9220 Bonita Beach Road, Bonita Springs, FL 34135. | August 10, 2021 | 120680
Monroe, (FEMA Docket No.: B-2133). | Unincorporated areas of Monroe County, (21-04-1580P). | The Honorable Michelle Coldiron, Mayor, Monroe County Board of Commissioners, 25 Ships Way, Big Pine Key, FL 33042. | Monroe County Building Department, 2798 Overseas Highway, Suite 300, Marathon, FL 33050. | August 9, 2021 | 125129
Pinellas, (FEMA Docket No.: B-2136). | Town of Belleair, (21-04-0918P). | Mr. J. P. Murphy, Manager, Town of Belleair, 901 Ponce de Leon Boulevard, Belleair, FL 33756. | Building Department, 901 Ponce de Leon Boulevard, Belleair, FL 33756. | August 5, 2021 | 125088
Polk, (FEMA Docket No.: B-2130). | Unincorporated areas of Polk County, (20-04-2054P). | The Honorable Rick Wilson, Chairman, Polk County Board of Commissioners, P.O. Box 9005, Drawer BC01, Bartow, FL 33831. | Polk County Land Development Division, 330 West Church Street, Bartow, FL 33831. | August 5, 2021 | 120261
Volusia, (FEMA Docket No.: B-2133). | City of Port Orange, (20-04-5567P). | The Honorable Donald O. Burnette, Mayor, City of Port Orange, 1000 City Center Circle, Port Orange, FL 32129. | Community Development Department, 1000 City Center Circle, Port Orange, FL 32129. | August 13, 2021 | 120313
Volusia, (FEMA Docket No.: B-2133). | Unincorporated areas of Volusia County, (20-04-5567P). | Mr. George Recktenwald, Volusia County Manager, 123 West Indiana Avenue, Deland, FL 32720. | Volusia County Planning and Development Services Department, 123 West Indiana Avenue, Deland, FL 32720. | August 13, 2021 | 125155
Louisiana:
St. Tammany, (FEMA Docket No.: B-2133). | City of Mandeville, (20-06-2506P). | The Honorable Clay Madden, Mayor, City of Mandeville, 3101 East Causeway Approach, Mandeville, LA 70448. | City Hall, 3101 East Causeway Approach, Mandeville, LA 70448. | August 11, 2021 | 220202
St. Tammany, (FEMA Docket No.: B-2133). | Unincorporated areas of St. Tammany Parish, (21-06-0797P). | The Honorable Michael B. Cooper, President, St. Tammany Parish, 21490 Koop Drive, Mandeville, LA 70471. | St. Tammany Parish Inspections and Enforcement Department, 21454 Koop Drive, Mandeville, LA 70471. | August 10, 2021 | 225205
South Carolina: Georgetown, (FEMA Docket No.: B-2130). | Unincorporated areas of Georgetown County, (21-04-0982P). | Ms. Angela Christian, Georgetown County Administrator, 716 Prince Street, Georgetown, SC 29440. | Georgetown County Building Department, 129 Screven Street, Georgetown, SC 29440. | August 5, 2021 | 450085
Tennessee:
Wilson, (FEMA Docket No.: B-2133). | City of Lebanon, (20-04-4425P). | The Honorable Rick Bell, Mayor, City of Lebanon, 106 North Castle Heights Avenue, Lebanon, TN 37087. | Engineering Department, 200 Castle Heights Avenue North, Lebanon, TN 37087. | July 28, 2021 | 470208
Wilson, (FEMA Docket No.: B-2133). | Unincorporated areas of Wilson County, (20-04-4425P). | The Honorable Randall Hutto, Mayor, Wilson County, 228 East Main Street, Room 104, Lebanon, TN 37087. | Wilson County Planning Department, 228 East Main Street, Room 5, Lebanon, TN 37087. | July 28, 2021 | 470207
Texas:
Bexar, (FEMA Docket No.: B-2141). | Unincorporated areas of Bexar County, (20-06-3173P). | The Honorable Nelson W. Wolff, Bexar County Judge, 101 West Nueva Street, 10th Floor, San Antonio, TX 78205. | Bexar County Public Works Department, 1948 Probandt Street, San Antonio, TX 78214. | August 9, 2021 | 480035
Collin, (FEMA Docket No.: B-2141). | Unincorporated areas of Collin County, (20-06-3461P). | The Honorable Chris Hill, Collin County Judge, 2300 Bloomdale Road, Suite 4192, McKinney, TX 75071. | Collin County Engineering Department, 4690 Community Avenue, Suite 200, McKinney, TX 75071. | August 16, 2021 | 480130
Dallas, (FEMA Docket No.: B-2133). | City of Irving, (20-06-2875P). | The Honorable Rick Stopfer, Mayor, City of Irving, 825 West Irving Boulevard, Irving, TX 75060. | Engineering Department, 825 West Irving Boulevard, Irving, TX 75060. | August 2, 2021 | 480180
Denton and Tarrant, (FEMA Docket No.: B-2133). | City of Fort Worth, (21-06-0261P). | The Honorable Betsy Price, Mayor, City of Fort Worth, 200 Texas Street, Fort Worth, TX 76102. | Transportation and Public Works Department, Engineering Vault, 200 Texas Street, Fort Worth, TX 76102. | August 16, 2021 | 480596
Harris, (FEMA Docket No.: B-2133). | City of Houston, (20-06-2472P). | The Honorable Sylvester Turner, Mayor, City of Houston, P.O. Box 1562, Houston, TX 77251. | Floodplain Management Department, 1002 Washington Avenue, Houston, TX 77002. | August 2, 2021 | 480296
Rockwall, (FEMA Docket No.: B-2136). | City of Royse City, (20-06-3180P). | The Honorable Clay Ellis, Mayor, City of Royse City, 305 North Arch Street, Royse City, TX 75189. | Engineering Department, 305 North Arch Street, Royse City, TX 75189. | August 13, 2021 | 480548
Tarrant, (FEMA Docket No.: B-2133). | City of Fort Worth, (21-06-0615P). | The Honorable Betsy Price, Mayor, City of Fort Worth, 200 Texas Street, Fort Worth, TX 76102. | Department of Transportation and Public Works, 200 Texas Street, Fort Worth, TX 76102. | August 2, 2021 | 480596
Tarrant, (FEMA Docket No.: B-2133). | City of North Richland Hills, (21-06-0066P). | The Honorable Oscar Trevino, Jr., Mayor, City of North Richland Hills, 4301 City Point Drive, North Richland Hills, TX 76180. | City Hall, 4301 City Point Drive, North Richland Hills, TX 76180. | August 16, 2021 | 480607
Williamson, (FEMA Docket No.: B-2133). | City of Cedar Park, (21-06-0028P). | The Honorable Corbin Van Arsdale, Mayor, City of Cedar Park, 450 Cypress Creek Road, Building 1, Cedar Park, TX 78613. | Engineering Department, 450 Cypress Creek Road, Building 1, Cedar Park, X 78613. | July 30, 2021 | 481282
Virginia:
Frederick, (FEMA Docket No.: B-2133). | City of Winchester, (21-03-0704X). | The Honorable John David Smith, Jr., Mayor, City of Winchester, 15 North Cameron Street, Winchester, VA 22601. | Engineering Division, 15 North Cameron Street, Winchester, VA 22601. | August 10, 2021 | 510173
Frederick, (FEMA Docket No.: B-2133). | Unincorporated areas of Frederick County, (21-03-0704X). | The Honorable Charles S. DeHaven, Jr., Chairman-at-Large, Frederick County Board of Supervisors, 107 North Kent Street, Winchester, VA 22601. | Frederick County Zoning Department, 107 North Kent Street, Suite 202, Winchester, VA 22601. | August 10, 2021 | 510063

[FR Doc. 2021-19210 Filed 9-3-21; 8:45 am]

BILLING CODE 9110-12-P